INTERNATIONAL TRADE COMMISSION

[Investigation No. 731-TA-921 (Final)]

Folding Gift Boxes From China

Determination

On the basis of the record ¹ developed in the subject investigation, the United States International Trade Commission determines, pursuant to section 735(b) of the Tariff Act of 1930 (19 U.S.C. 1673d(b)) (the Act), that an industry in the United States is materially injured by reason of imports from China of folding gift boxes, provided for in subheadings 4819.20.00 and 4819.50.40 of the Harmonized Tariff Schedule of the United States, that have been found by the Department of Commerce to be sold in the United States at less than fair value (LTFV).

¹ The record is defined in sec. 207.2(f) of the commission's rules of practice and procedure (19 CFR 207.2(f)).

Background

The Commission instituted this investigation effective February 20, 2001, following receipt of a petition filed with the Commission and Commerce by Harvard Folding Box Company, Inc., Lynn, MA, and Field Container Company, L.P., Elk Grove, IL. The final phase of the investigation was scheduled by the Commission following notification of a preliminary determination by Commerce that imports of folding gift boxes from China were being sold at LTFV within the meaning of section 733(b) of the Act (19 U.S.C. 1673b(b)). Notice of the scheduling of the Commission's investigation and of a public hearing to be held in connection therewith was given by posting copies of the notice in the Office of the Secretary, U.S. International Trade Commission, Washington, DC, and by publishing the notice in the Federal Register of August 30, 2001 (66 FR 45864). The hearing was held in Washington, DC, on November 15, 2001, and all persons who requested the opportunity were permitted to appear in person or by counsel.

The Commission transmitted its determination in this investigation to the Secretary of Commerce on December 21, 2001. The views of the Commission are contained in USITC Publication 3480 (December 2001), entitled Folding Gift Boxes from China: Investigation No. 731-TA-921 (Final).

By order of the Commission.
Issued: December 21, 2001.
Donna R. Koehnke,
Secretary.

[FR Doc. 01-32085 Filed 12-28-01; 8:45 am]

BILLING CODE 7020-02-P